ENVIRONMENTAL PROTECTION AGENCY

[FRL OP-OFA-168]

Environmental Impact Statements; Notice of Availability

Responsible Agency: Office of Federal Activities, General Information 202-564-5632 or https://www.epa.gov/nepa.

Weekly receipt of Environmental Impact Statements (EIS)

Filed February 24, 2025 10 a.m. EST Through March 3, 2025 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20250026, Final, FERC, ME, Weston, Lockwood, and Hydro Kennebec Projects, and the relicensing of the Shawmut Project, Review Period Ends: 04/07/2025, Contact: Office of External Affairs 866-208-3372.

Amended Notice

EIS No. 20250009, Draft, NNSA, NM, Draft Site-Wide Environmental Impact Statement for Continued Operation of Los Alamos National Laboratory, Comment Period Ends: 04/10/2025, Contact: Stephen Hoffman 505-665-8980.

Revision to FR Notice Published 01/10/2025; Extending the Comment Period from 03/11/2025 to 04/10/2025.

Dated: March 3, 2025.
Mark Austin,
Acting Director, NEPA Compliance Division, Office of Federal Activities.

[FR Doc. 2025-03688 Filed 3-6-25; 8:45 am]

BILLING CODE 6560-50-P